DEPARTMENT OF TRANSPORTATION

Federal Aviation Administration

14 CFR Part 39

[Docket No. FAA-2007-27338; Directorate Identifier 2006-NM-148-AD]

RIN 2120-AA64

Airworthiness Directives; McDonnell Douglas Model 717-200 Airplanes

AGENCY: Federal Aviation Administration (FAA), Department of Transportation (DOT).

ACTION: Notice of proposed rulemaking (NPRM).

SUMMARY: The FAA proposes to supersede an existing airworthiness directive (AD) that applies to all McDonnell Douglas Model 717-200 airplanes. The existing AD currently requires revising the Airworthiness Limitations Section (ALS) of the Instructions for Continued Airworthiness to incorporate new removal limits for certain components of the flap system and to reduce the interval of inspections for fatigue cracking of certain principal structural elements (PSEs). This proposed AD would require revising the ALS of the Instructions for Continued Airworthiness to incorporate reduced initial inspection and repeat inspection intervals for certain PSEs. This proposed AD results from a revised damage tolerance analysis. We are proposing this AD to detect and correct fatigue cracking of certain PSEs, which could adversely affect the structural integrity of the airplane.

DATES: We must receive comments on this proposed AD by April 12, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for the service information identified in this proposed AD.

FOR FURTHER INFORMATION CONTACT: David Rathfelder, Aerospace Engineer, Airframe Branch, ANM-120L, FAA, Los Angeles Aircraft Certification Office, 3960 Paramount Boulevard, Lakewood, California 90712-4137; telephone (562) 627-5229; fax (562) 627-5210.

SUPPLEMENTARY INFORMATION:

Comments Invited

We invite you to submit any relevant written data, views, or arguments regarding this proposed AD. Send your comments to an address listed in the ADDRESSES section. Include the docket number “FAA-2007-27338; Directorate Identifier 2006-NM-148-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On August 11, 2003, we issued AD 2003-17-01, amendment 39-13274 (68 FR 49686, August 19, 2003), for all McDonnell Douglas Model 717-200 airplanes. That AD requires revising the Airworthiness Limitations Section of the Instructions for Continued Airworthiness, Airworthiness Limitations Instructions (ALI), to incorporate new removal limits for certain components of the flap system and to reduce the interval of inspections for fatigue cracking of certain principal structural elements (PSEs). That AD resulted from a revised damage tolerance analysis. We issued that AD to detect and correct fatigue cracking of certain PSEs, which could adversely affect the structural integrity of the airplane.

Actions Since Existing AD Was Issued

Since we issued AD 2003-17-01, Boeing has made a further damage tolerance analysis of certain PSEs on Model 717-200 airplanes. The analysis was repeated to divide one larger PSE into several smaller PSEs and to include new inspection procedures. The damage tolerance analysis resulted in a reduction to the inspection initial and repeat intervals of some PSEs and an increase to intervals for other PSEs.

The actions specified by the proposed AD are intended to detect fatigue cracking of certain PSEs. Fatigue cracking, if not detected and corrected, could adversely affect the structural integrity of the airplane.

Relevant Service Information

We have reviewed Boeing 717-200 Airworthiness Limitations Instructions (ALI), Report MDC-96K9063, Revision 5, dated February 2006. Among other things, Revision 5 of the ALI revises intervals for initial and repeat inspections for fatigue cracking of certain PSEs. Additionally, Revision 5 updates certain portions of the non-destructive inspection (NDI) techniques and procedures, and corrects some typographical errors that appeared in an earlier revision. Accomplishment of the actions specified in the service information is intended to adequately address the identified unsafe condition.

FAA's Determination and Requirements of the Proposed AD

We have evaluated all pertinent information and identified an unsafe condition that is likely to develop on other airplanes of the same type design. For this reason, we are proposing this AD, which would supersede AD 2003-17-01. This proposed AD would retain the requirements of AD 2003-17-01. This proposed AD would also require operators to incorporate the Boeing 717-200 ALI, Report MDC-96K9063, Revision 5, dated February 2006, into the applicable maintenance and inspection program.

Change to Existing AD

This proposed AD would retain the requirements of AD 2003-17-01. Since AD 2003-17-01 was issued, the AD format has been revised, and certain paragraphs have been rearranged. As a result, paragraphs (a) and (b) of AD 2003-17-01 have been re-identified as paragraphs (f) and (g) of this proposed AD.

Costs of Compliance

The FAA estimates that 108 airplanes of U.S. registry are affected by AD 2003-17-01, that it takes approximately 1 work hour per airplane to accomplish the required actions, and that the average labor rate is $80 per work hour. Based on these figures, the cost impact on U.S. operators of the actions required by AD 2003-17-01 and retained in this proposed AD is estimated to be $8,640, or $80 per airplane.

There are about 155 airplanes of the affected design in the worldwide fleet. This proposed AD would affect about 121 airplanes of U.S. registry. The new proposed maintenance and inspection program revision would take about 1 work hour per airplane, at an average labor rate of $80 per work hour. Based on these figures, the estimated cost of the new proposed AD to U.S. operators is $9,680, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13274 (68 FR 49686, August 19, 2003) and adding the following new airworthiness directive (AD):

McDonnell Douglas: Docket No. FAA-2007-27338; Directorate Identifier 2006-NM-148-AD.

Comments Due Date

(a) The FAA must receive comments on this AD action by April 12, 2007.

Affected ADs

(b) This AD supersedes AD 2003-17-01.

Applicability

(c) This AD applies to all McDonnell Douglas Model 717-200 airplanes, certificated in any category.

Note 1: This AD requires revisions to certain operator maintenance documents to incorporate new inspections for fatigue cracking of principal structural elements (PSEs). Compliance with these inspections is required by 14 CFR 91.403(c). For airplanes that have been previously modified, altered, or repaired in the areas addressed by these inspections, the operator may not be able to incorporate the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529-1.

Unsafe Condition

(d) This AD results from a revised damage tolerance analysis. We are issuing this AD to detect and correct fatigue cracking of certain PSEs, which could adversely affect the structural integrity of the airplane.

Compliance

(e) You are responsible for having the actions required by this AD performed within the compliance times specified, unless the actions have already been done.

Restatement of Requirements of AD 2003-17-01

Revising Airworthiness Limitations Section

(f) Within 180 days after September 23, 2003 (the effective date of AD 2003-17-01), revise the Airworthiness Limitations Section of the Instructions for Continued Airworthiness, Airworthiness Limitations Instructions (ALI), in accordance with Boeing Report MDC-96K9063, Revision 3, dated August 2002.

(g) Except as provided by paragraph (j) of this AD: After the actions specified in paragraph (f) of this AD have been done, no alternative inspection intervals or replacement times may be approved for the PSEs and safe-life limited parts specified in Boeing Report Number MDC-96K9063, Revision 3, dated August 2002.

New Requirements of This AD

Revising Airworthiness Limitations Section Using Revision 5

(h) Within 180 days after the effective date of this AD: Revise the Airworthiness Limitations Section of the Instructions for Continued Airworthiness, ALI, in accordance with Boeing 717-200 ALI, Report MDC-96K9063, Revision 5, dated February 2006.

(i) Except as provided by paragraph (j) of this AD: After the actions specified in paragraph (h) of this AD have been done, no alternative inspection intervals or replacement times may be approved for the PSEs and safe-life limited parts specified in Boeing 717-200 ALI, Report MDC-96K9063, Revision 5, dated February 2006.

Alternative Methods of Compliance (AMOCs)

(j)(1) The Manager, Los Angeles ACO, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane, and the approval must specifically refer to this AD.

(3) Before using any AMOC approved in accordance with § 39.19 on any airplane to which the AMOC applies, notify the appropriate principal inspector in the FAA Flight Standards Certificate Holding District Office.

Issued in Renton, Washington, on February 16, 2007.
Ali Bahrami,
Manager, Transport Airplane Directorate, Aircraft Certification Service.

[FR Doc. E7-3170 Filed 2-23-07; 8:45 am]

BILLING CODE 4910-13-P